DEPARTMENT OF TRANSPORTATION

Pipeline and Hazardous Materials Safety Administration

[Docket No. PHMSA-2006-23448; Notice 2]

Pipeline Safety: Request for Waiver; Maritimes & Northeast Pipeline, L.L.C.—Extension of Comment Period

AGENCY: Pipeline and Hazardous Materials Safety Administration (PHMSA), DOT.

ACTION: Notice; extension of public comment period.

SUMMARY: On March 22, 2006, PHMSA sought comment on a request by Maritimes & Northeast Pipeline, L.L.C.'s (M&NE) waiver of the pipeline safety standard on the maximum allowable operating pressure. This document extends the public comment period from April 21, 2006 to June 16, 2006.

DATES: Comments must be received on or before June 16, 2006.

ADDRESSES: Comments should reference Docket No. PHMSA-2006-23448 and may be submitted in the following ways:

• DOT Web site: http://dms.dot.gov. To submit comments on the DOT electronic docket site, click “Comment/Submissions,” click “Continue,” fill in the requested information, click “Continue,” enter your comment, then click “Submit.”

• Fax: 202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web site: http://www.Regulations.gov. This site allows the public to enter comments on any Federal Register notice issued by any agency.

Instructions: You should identify the docket number, PHMSA-2006-23448, at the beginning of your comments. If you mail your comments, you should send two copies. If you wish to receive confirmation that PHMSA received your comments, you should include a self-addressed stamped postcard. Internet users may submit comments at http://www.regulations.gov and may access all comments received by DOT at http://dms.dot.gov by performing a simple search for the docket number.

Note: All comments will be posted without changes or edits to http://dms.dot.gov including any personal information provided.

FOR FURTHER INFORMATION CONTACT: James Reynolds by telephone at 202-366-2786; by fax at 202-366-4566; or by e-mail at james.reynolds@dot.gov; or by mail at DOT, Pipeline and Hazardous Materials Safety Administration (PHMSA), Pipeline Safety Program (PHP), 400 7th Street, SW., Room 2103, Washington, DC 20590.

SUPPLEMENTARY INFORMATION:

I. Background

On March 22, 2006, PHMSA issued a Notice of Intent to consider the waiver requests presented by M&NE (PHMSA-2006-23448; Notice 1; 71 FR 14575). The Notice of Intent allowed anyone interested in filing public comments addressing the request described in the notice to do so by April 21, 2006.

On April 14 & 24, 2006, the Maine Public Utilities Commission (MPUC) requested a 60-day extension of the comment period. MPUC said the extension would allow M&NE to notify more residents within a high consequence area (along the pipeline corridor) of the pending waiver request. MPUC said the extension would allow effective notice to the affected residents, and give them ample opportunity to submit comments on the petition. Therefore, MPUC urged PHMSA to grant the extension so all might have confidence in the fairness of the waiver process to the public.

On May 2, 2006, M&NE wrote PHMSA in support of comments filed by MPUC. M&NE stated they were in the process of sending letters to the additional residents requested by the MPUC. The letters notify residents of the proposed waiver and the opportunity for comment.

In consideration of the above, PHMSA extends the public comment period to June 16, 2006.

II. Regulatory Notice

Privacy Act Statement

Anyone may search the electronic form of all comments received for any of our dockets. You may review DOT's complete Privacy Act Statement in the Federal Register published on April 11, 2000 (65 FR 19477) or you may visit http://dms.dot.gov.

Issued in Washington, DC, on May 10, 2006.
Theodore L. Willke,
Deputy Associate Administrator for Pipeline Safety.

[FR Doc. E6-7443 Filed 5-15-06; 8:45 am]

BILLING CODE 4910-60-P